POSTAL REGULATORY COMMISSION

[Docket No. MC2020-7; Order No. 5270]

Mail Classification Schedule

AGENCY: Postal Regulatory Commission.

ACTION: Notice.

SUMMARY: The Commission is acknowledging a recent Postal Service filing concerning classification changes to the Mail Classification Schedule related to International Mail. This document informs the public of the filing, invites public comment, and takes other administrative steps.

DATES: Comments are due: November 7, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On October 9, 2019, the Postal Service filed a notice of classification changes pursuant to Commission rule 39 CFR 3020.90.¹ The Postal Service seeks to make changes in the Mail Classification Schedule (MCS) governing International Mail. Notice at 1. The changes are intended to take effect on January 26, 2020, simultaneously with the implementation of the planned market dominant price changes filed in Docket No. R2020-1 ² and the planned competitive price changes filed in Docket No. CP2020-5.³ Notice at 1.

¹ Notice of United States Postal Service of Minor Classification Changes, October 9, 2019 (Notice).

² Docket No. R2020-1, United States Postal Service Notice of Market-Dominant Price Change, October 9, 2019.

³ Docket No. CP2020-5, United States Postal Service Notice of Changes in Rates of General Applicability for Competitive Products, October 9, 2019.

II. Summary of Changes

The Postal Service states that “[t]he purpose of these minor modifications is to make changes to the country price list for international mail . . . in order to conform to official sources and improve the accuracy of the product descriptions in the MCS.” Id. The Postal Service avers that the proposed changes satisfy the requirements of 39 CFR 3020.90 because the changes should result in a more accurate representation of the Postal Service's current offerings and should allow mailers to more precisely locate pertinent information, the Notice is filed more than 15 days prior to the intended effective date, and the changes merely make revisions concerning one possible destination for certain products listed in the MCS without otherwise changing those products or their prices or price groups. Id. at 1-2. The Postal Service also asserts that the proposed changes do not significantly change the user experience for any product and that there is no evidence that the changes will significantly impact competitors. Id. at 2.

III. Notice of Commission Action

Pursuant to 39 CFR 3020.91, the Commission has posted the Notice on its website and invites comments on whether the Postal Service's filings are consistent with 39 CFR part 3020, subpart E. Comments are due no later than November 7, 2019. The filing can be accessed via the Commission's website (http://www.prc.gov).

The Commission appoints Katrina R. Martinez to represent the interests of the general public (Public Representative) in this docket.

IV. Ordering Paragraphs

It is ordered:

1. The Commission establishes Docket No. MC2020-7 to consider matters raised by the Notice.

2. Comments by interested persons are due by November 7, 2019.

3. Pursuant to 39 U.S.C. 505, Katrina R. Martinez is appointed to serve as an officer of the Commission (Public Representative) to represent the interests of the general public in this proceeding.

4. The Commission directs the Secretary of the Commission to arrange for prompt publication of this notice in the Federal Register.

By the Commission.
Darcie S. Tokioka,
Acting Secretary.

[FR Doc. 2019-22577 Filed 10-16-19; 8:45 am]

BILLING CODE 7710-FW-P